DEPARTMENT OF STATE

[Public Notice 7004]

Meeting; Shipping Coordinating Committee

The Shipping Coordinating Committee (SHC) will conduct three separate open meetings on July 7, July 28, and August 18, 2010, all at the United States Coast Guard Headquarters Building, 2100 Second Street, SW., Washington, DC 20593-0001. The primary purpose of the July 7 meeting is to prepare for the twenty-first Session of the International Mobile Satellite Organization (IMSO) Assembly to be held at the IMSO headquarters in London, United Kingdom, from July 12-16, 2010. This SHC meeting will begin at 9:30 a.m. and be held in room 1303.

The primary matters to be considered at the IMSO meeting include:

—Election of the Chairman and Vice-Chairman.

—Adoption of the Agenda.

—Appointment of the Credential Committee and Consideration of Its Report.

—Status of Constituent and Other Instruments.

—Global Maritime Distress and Safety Systems (GMDSS).

—Long Range Identification and Tracking of Ships (LRIT).

—Advisory Committee.

—Implementation of the Basic Principles (Public Service Obligations).

—Directorate Activities.

—Contract of the IMSO Director General.

—Financial Matters.

—Report on Activities of Inmarsat.

—Relationship With Other International Organizations.

—Date and Place of Next Session.

—Any Other Business.

The primary purpose of the July 28 SHC meeting is to prepare for the fifty-third Session of the International Maritime Organization (IMO) Subcommittee on Stability and Load Lines and on Fishing Vessels Safety (SLF) to be held at the IMO Headquarters, United Kingdom, from January 10 to January 14, 2011. This SHC meeting will begin at 1 p.m. and be held in conference Room 2415 .

The primary matters to be considered at the SLF meeting include:

—Adoption of the agenda.

—Decisions of other IMO bodies.

—Development of new generation intact stability criteria.

—Guidelines to enhance the safety of small fishing vessels.

—Guidelines to improve the effect of the 1969 Tonnage Measurement Convention on ship design and safety.

—Standards on time-dependent survivability of passenger ships in damaged condition.

—Stability and sea-keeping characteristics of damaged passenger ships in a seaway when returning to port under own power or under tow.

—Guidelines for verification of damage stability requirements for tankers and bulk carriers.

—Safety provisions applicable to tenders operating from passenger ships.

—Review of damage stability regulations for ro-ro passenger ships.

—Legal and technical options to facilitate and expedite the earliest possible entry into force of the 1993 Torremolinos Protocol.

—Amendments to SOLAS chapter II-1 subdivision standards for cargo ships.

—Amendments to the 1966 Load Line Convention and the 1988 Load Line Protocol related to seasonal zones.

—Revision of SOLAS chapter II-1 subdivision and damage stability regulations.

—Consideration of IACS unified interpretations.

—Work program and agenda for SLF 54.

—Election of Chairman and Vice-Chairman for 2012.

—Any other business.

—Report to the Maritime Safety Committee.

The primary purpose of the August 18 SHC meeting is to prepare for the thirty-sixth Session of the International Maritime Organization (IMO) Facilitation Committee (FAL) to be held at the IMO Headquarters, United Kingdom, from September 6 to September 10, 2010. This SHC meeting will begin at 9:30 a.m. and be held in room 1303.

The primary matters to be considered at the FAL meeting include:

—Consideration and adoption of proposed amendments to the Convention.

—General review and implementation of the Convention.

—Electronic means for the clearance of ships.

—Formalities connected with the arrival, stay and departure of persons.

—Certificates and documents required to be carried on board ships and FAL Forms.

—Securing and facilitating international trade.

—Ship/port interface.

—Technical co-operation and assistance.

—Relations with other organizations

—Review of the Role, mission, strategic direction and work of the Committee.

Members of the public may attend the three meetings up to the seating capacity of the rooms. To facilitate the building security process and request reasonable accommodations, those who plan to attend one or all of the three meetings should contact the following coordinators at least 7 days prior to the meetings:

—For the July 7 IMSO meeting, contact LCDR Jason Smith, by e-mail at jason.e.smith2@uscg.mil, by phone at (202) 372-1376, by fax at (202) 372-1925, or in writing at Commandant (CG-52), U.S. Coast Guard, 2100 2nd Street, SW., Stop 7126, Washington, DC 20593-7126.

—For the July 28 SLF meeting, contact LCDR Tracy Phillips by e-mail at Tracy.Phillips@uscg.mil, by phone at (202) 372-1373, by fax at (202) 372-1925, or in writing at Commandant (CG-5212), U.S. Coast Guard, 2100 2nd Street, SW., Stop 7126, Washington, DC 20593-7126.

—For the August 18 meeting, contact Mr. David Du Pont, by e-mail at David.A.DuPont@uscg.mil, by phone at (202) 372-1497, by fax at (202) 372-1928, or in writing at Commandant (CG-5232), U.S. Coast Guard, 2100 2nd Street, SW., Stop 7126, Washington, DC 20593-7126.

Please note that due to security considerations, two valid, government issued photo identifications must be presented to gain entrance to the Headquarters building. The Headquarters building is accessible by taxi and privately owned conveyance (public transportation is not generally available). However, parking in the vicinity of the building is extremely limited. Additional information regarding this and other SHC public meetings may be found at: www.uscg.mil/imo.

Dated: June 18, 2010.
Jon Trent Warner,
Executive Secretary, Shipping Coordinating Committee, Department of State.

[FR Doc. 2010-15211 Filed 6-22-10; 8:45 am]

BILLING CODE 4710-09-P